DEPARTMENT OF COMMERCE

National Oceanic and Atmospheric Administration

[I.D. 051704C]

Gulf of Mexico Fishery Management Council; Public Hearings

AGENCY: National Marine Fisheries Service (NMFS), National Oceanic and Atmospheric Administration (NOAA), Commerce.

ACTION: Notice of public hearings; request for comments.

SUMMARY: The Gulf of Mexico Fishery Management Council (Council) will hold public hearings to solicit comments on draft Amendment 23 to the Reef Fish Fishery Management Plan (draft Amendment 23) that contains alternatives for the vermilion snapper rebuilding plan. Scoping hearings for a charter vessel permit moratorium extension will also be held.

DATES: The meetings will be held in June 2004. See SUPPLEMENTARY INFORMATION for specific dates and times. Public comments on draft Amendment 23 that are received in the Council office by 5 p.m., July 1, 2004, will be presented to the Council.

ADDRESSES: Written comments should be sent to the Gulf of Mexico Fishery Management Council, 3018 U.S. Highway 301, North, Suite 1000, Tampa, FL 33619.

FOR FURTHER INFORMATION CONTACT: Mr. Stu Kennedy, Fishery Biologist, Gulf of Mexico Fishery Management Council; telephone: (813) 228-2815.

SUPPLEMENTARY INFORMATION: Draft Amendment 23 (FMP) contains alternatives for the vermilion snapper population in the Gulf of Mexico that was declared to be overfished and undergoing overfishing on October 30, 2003. Under the Magnuson-Stevens Fishery Conservation and Management Act, the Council has one year from that date to develop a plan to end overfishing and rebuild the stock. Draft Amendment 23 specifies alternatives to set stock status determination criteria and biological reference points that determine when overfishing has ended and the vermilion snapper stock is no longer overfished. Alternatives that establish a plan to end overfishing and rebuild the stock include 10-year and 7-year rebuilding plans and harvest reduction measures that change size limits, bag limits, trip limits, or specify quotas or seasonal closures.

Following presentation and comment on draft Amendment 23, the Council will present the scoping document for the extension of the moratorium on the issuance of additional charter vessel/headboat permits. The rule creating the moratorium on the issuance of the permits was implemented through Amendment 14 to the Coastal Migratory Pelagic FMP and Amendment 20 to the Reef Fish FMP effective June 16, 2003, for a 3-year period (68 FR 26230). The scoping document presents alternatives for consideration and comment by the public for allowing the permit moratorium to expire at the end of the 3-year period or to extend the moratorium period by another 3 to 6 years. The rationale for alternatives for extension of the moratorium is that during the extended period the Council would consider a more complex limited access system for the charter vessel/headboat fishery. If the Council were to determine the more complex system was needed then additional time would be necessary to develop and implement an amendment for that purpose. The Council is soliciting public comment on these issues through the scoping hearings and by mail.

Times and Locations of Hearings

The public hearings will be held at the following locations and dates beginning at 7:00 p.m. and concluding no later than 10 p.m.:

1. Monday, June 7, 2004, Naples Depot Civic Cultural Center (Windisch Room), 1051 5th Avenue South, Naples, FL 34102; telephone: 239-262-1776;

2. Wednesday, June 9, 2004, City of Madeira Beach, 300 Municipal Drive, Madeira Beach, FL 33702; telephone: 727-391-9951;

3. Monday, June 21, 2004, New Orleans Airport Hilton, 901 Airline Drive, Kenner, LA 70062; telephone: 504-469-5000;

4. Tuesday, June 22, 2004, MS Department of Marine Resources, 1141 Bayview Drive, Biloxi, MS 39530; telephone: 228-374-5000;

5. Wednesday, June 23, 2004, Perdido Beach Resort, 27200 Perdido Beach Boulevard, Orange Beach, AL 36561; telephone: 251-981-9811;

6. Thursday, June 24, 2004, Destin Community Center, 101 Stahlman Avenue, Destin, FL 32541; telephone: 850-654-5184;

7. Monday, June 28, 2004, Laguna Madre Learning Center, Port Isabel High School, Highway 100, Port Isabel, TX 78578; telephone: 956-943-0052;

8. Tuesday, June 29, 2004, Port Aransas Community Center, 408 N Alister, Port Aransas, TX 78373; telephone: 361-749-4111; and

9. Wednesday, June 30, 2004, San Luis Resort, 5222 Seawall Boulevard, Galveston Island, TX 77551; telephone: 409-740-8616.

These meetings are physically accessible to people with disabilities. Requests for sign language interpretation or other auxiliary aids should be directed to Trish Kennedy at the Council (see ADDRESSES) by May 28, 2004.

Dated: May 18, 2004.
Galen R. Tromble,
Acting Director, Office of Sustainable Fisheries, National Marine Fisheries Service.

[FR Doc. 04-11661 Filed 5-21-04; 8:45 am]

BILLING CODE 3510-22-S